FEDERAL TRADE COMMISSION

Agency Information Collection Activities; Submission for OMB Review; Comment Request

AGENCY: Federal Trade Commission (“FTC” or “Commission”).

ACTION: Notice.

SUMMARY: The information collection requirements described below will be submitted to the Office of Management and Budget (“OMB”) for review, as required by the Paperwork Reduction Act (“PRA”) (44 U.S.C. 3501-3520). The FTC is seeking public comments on its proposal to extend through May 31, 2009 the current PRA clearance for information collection requirements contained in its Alternative Fuel Rule, 16 CFR Part 309. That clearance expires on November 30, 2006.

DATES: Comments must be filed by November 21, 2006.

ADDRESSES: Interested parties are invited to submit written comments. Comments should refer to “Alternative Fuel Rule: FTC File No. R311002” to facilitate the organization of comments. A comment filed in paper form should include this reference both in the text and on the envelope and should be mailed or delivered, with two complete copies, to the following address: Federal Trade Commission, Room H 135 (Annex J), 600 Pennsylvania Ave., NW., Washington, DC 20580. Because paper mail in the Washington area and at the Commission is subject to delay, please consider submitting your comments in electronic form, (in ASCII format, WordPerfect, or Microsoft Word) as part of or as an attachment to email messages directed to the following email box: paperworkcomment@ftc.gov. However, if the comment contains any material for which confidential treatment is requested, it must be filed in paper form, and the first page of the document must be clearly labeled “Confidential.”¹

¹ Commission Rule 4.2(d), 16 CFR 4.2(d). The comment must be accompanied by an explicit request for confidential treatment, including the factual and legal basis for the request, and must identify the specific portions of the comment to be withheld from the public record. The request will be granted or denied by the Commission's General Counsel, consistent with applicable law and the public interest. See Commission Rule 4.9(c), 16 CFR 4.9(c).

The FTC Act and other laws the Commission administers permit the collection of public comments to consider and use in this proceeding as appropriate. All timely and responsive public comments will be considered by the Commission and will be available to the public on the FTC Web site, to the extent practicable, at http://www.ftc.gov. As a matter of discretion, the FTC makes every effort to remove home contact information for individuals from the public comments it receives before placing those comments on the FTC Web site. More information, including routine uses permitted by the Privacy Act, may be found in the FTC's privacy policy at http://www.ftc.gov/ftc/privacy.htm.

FOR FURTHER INFORMATION CONTACT: Requests for copies of the collection of information and supporting documentation should be addressed to Hampton Newsome, Attorney, Division of Enforcement, Bureau of Consumer Protection, Federal Trade Commission, 600 Pennsylvania Avenue, NW., Washington, DC 20580, (202) 326-3228.

SUPPLEMENTARY INFORMATION: Under the Paperwork Reduction Act (“PRA”), 44 U.S.C. 3501-3520, federal agencies must obtain approval from OMB for each collection of information they conduct or sponsor. “Collection of information” means agency requests or requirements that members of the public submit reports, keep records, or provide information to a third party. 44 U.S.C. 3502(3); 5 CFR 1320.3(c). As required by section 3506(c)(2)(A) of the PRA, the FTC is providing this opportunity for public comment before requesting that OMB extend the existing paperwork clearance for the regulations noted herein.

The FTC invites comments on: (1) Whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information on those who are to respond, including through the use of appropriate automated, electronic, mechanical, or other technological collection techniques or other forms of information technology, e.g., permitting electronic submission of responses.All comments should be filed as prescribed in the ADDRESSES section above, and must be received on or before November 21, 2006.

The Alternative Fuel Rule (“Rule”), 16 CFR Part 309, which implements the Energy Policy Act of 1992, Public Law 102-486, requires disclosure of specific information on labels posted on fuel dispensers for non-liquid alternative fuels and on labels on Alternative Fueled Vehicles (AFVs). To ensure the accuracy of these disclosures, the Rule also requires that sellers maintain records substantiating product-specific disclosures they include on these labels.

Burden Statement

It is common practice for alternative fuel industry members to determine and monitor fuel ratings in the normal course of their business activities. This is because industry members must know and determine the fuel ratings of their products in order to monitor quality and to decide how to market them. “Burden” for PRA purposes is defined to exclude effort that would be expended regardless of any regulatory requirement. 5 CFR 1320.2(b)(2). Moreover, as originally anticipated when the Rule was promulgated in 1995, many of the information collection requirements and the originally-estimated hours were associated with one-time start up tasks of implementing standard systems and processes.

Other factors also limit the burden associated with the Rule. Certification may be a one-time event or require only infrequent revision. Disclosures on electric vehicle fuel dispensing systems may be useable for several years.² Nonetheless, there is still some burden associated with posting labels. There also will be some minimal burden associated with new or revised certification of fuel ratings and recordkeeping. The burden on vehicle manufacturers is limited because only newly-manufactured vehicles will require label posting and manufacturers produce very few new models each year.

² Label specifications were designed to produce labels to withstand the elements for several years.

Estimated total annual hours burden: 24,000 total burden hours, rounded to the nearest thousand.

Non-Liquid Alternative Fuels

Certification: Staff estimates that the Rule's fuel rating certification requirements will affect approximately 550 industry members (compressed natural gas producers and distributors and manufacturers of electric vehicle fuel dispensing systems) and consume approximately one hour each per year for a total of 550 hours.

Recordkeeping: Staff estimates that all 1,900 industry members (non-liquid fuel producers, distributers, and retailers) will be subject to the Rule's recordkeeping requirements (associated with fuel rating certification) and that compliance will require approximately one-tenth hour each per year for a total of 190 hours.

Labeling: Staff estimates that labeling requirements will affect approximately nine of every ten industry members (or roughly 1,700 members), but that the number of annually affected members is only 340 because labels may remain effective for several years (staff assumes that in any given year approximately 20% of 1,700 industry members will need to replace their labels). Staff estimates that industry members require approximately one hour each per year for labeling their fuel dispensers for a total of 340 hours.

Sub-total: 1,080 hours (550 + 190 + 340)

AFV Manufacturers

Recordkeeping: Staff estimates that all 58 manufacturers will require 30 minutes to comply with the Rule's recordkeeping requirements for a total of 29 hours.

Producing labels: Staff estimates 2.5 hours as the average time required of manufacturers to produce labels for each of the five new AFV models introduced industry wide each year for a total of 12.5 hours.

Posting labels: Staff estimates 2 minutes as the average time to comply with the posting requirements for each of the approximately 680,000 new AFVs manufactured each year for a total of 22,667 hours.

Sub-total: Approximately 22,709 hours (29 + 12.5 + 22,667)

Thus, the total burden for these industries combined is approximately 24,000 hours (1,080 + 22,667), rounded to the nearest thousand.

Estimated labor costs: $698,000, rounded to the nearest thousand.

Labor costs are derived by applying appropriate hourly cost figures to the burden hours described above. According to Bureau of Labor Statistics staff, the average compensation for producers and distributors in the fuel industry is $19.34 per hour and $9.45 per hour for service station employees; the average compensation for workers in the vehicle industry is $29.90 per hour.

Non-Liquid Alternative Fuels

Certification and labeling: Generally, all of the estimated hours except for recordkeeping will be performed by producers and distributors of fuels. Thus, the associated labor costs would be $17,212.60 ((550 certification hours + 340 labeling hours) × $19.34).

Recordkeeping: Only ⅙ of the total 190 recordkeeping hours will be performed by the producers and distributors of fuels (⅙ of 190 hours = approximately 32 hours; 32 hours × $19.34 = $618.88); the other ⅚ is attributable to service station employees (⅚ of 190 hours = approximately 158 hours; 158 hours × $9.45 = $1,493.10) Thus, the labor cost due to recordkeeping for the entire industry is approximately $2,111.98 ($618.88 for producers and distributors of fuels + $1,493.10 for service station employees) and the total paperwork related labor cost for the entire industry is approximately $19,324.58 ($17,212.60 for certification and labeling costs + $2,111.98 for recordkeeping costs).

AFV Manufacturers

The maximum labor cost for the entire industry is approximately $678,999.10 per year for recordkeeping and producing and posting labels (22,709 total hours × $29.90/hour).

Thus, the estimated total labor cost for both industries for all paperwork requirements is $698,000 ($19,324.58 + $678,999.10) per year, rounded to the nearest thousand.

Estimated annual non-labor cost burden: $259,000 rounded.

Non-Liquid Alternative Fuels

Staff believes that there are no current start-up costs associated with the Rule, inasmuch as the Rule has been effective since 1995. Industry members, therefore, have in place the capital equipment and means necessary to determine automotive fuel ratings and comply with the Rule. Industry members, however, incur the cost of procuring fuel dispenser and AFV labels to comply with the Rule. The estimated annual fuel labeling cost, based on estimates of 540 fuel dispensers (assumptions: An estimated 20% of 1,350 total fuel retailers need to replace labels in any given year given an approximate five-year life for labels—i.e., 270 retailers—multiplied by an average of two dispensers per retailer) at thirty-eight cents for each label (per industry sources), is $205.00 ($0.38 × 540).

AFV Manufacturers

Here, too, staff believes that there are no current start-up costs associated with the Rule, for the same reasons as stated immediately above regarding the non-liquid alternative fuel industry. However, based on the labeling of an estimated 680,000 new and used AFVs each year at thirty-eight cents for each label (per industry sources), the annual AFV labeling cost is estimated to be $258,400 ($0.38 × 680,000).

Thus, estimated total annual non-labor cost burden associated with the Rule is $259,000 ($205 + $258,400), rounded to the nearest thousand.

William Blumenthal,
General Counsel.

[FR Doc. 06-8071 Filed 9-21-06; 8:45 am]

BILLING CODE 6750-01-P